ENVIRONMENTAL PROTECTION AGENCY

[ER-FRL-6631-8]

Environmental Impact Statements; Notice of Availability

Responsible Agency: Office of Federal Activities, General Information (202) 564-7167 or http://www.epa.gov/compliance/nepa.

Weekly receipt of Environmental Impact Statements

Filed July 29, 2002 Through August 2, 2002

Pursuant to 40 CFR 1506.9.

EIS No. 020326, Final EIS, FHW, RI, Sakonnet River Bridge Rehabilitation or Replacement Project, Portsmouth & Tiverton, Newport County, RI , Wait Period Ends: September 9, 2002, Contact: Daniel J. Berman (401) 528-4541.

EIS No. 020327, Draft EIS, AFS, AK, Shoreline Outfitter/Guide Plan, Commercial Permits Issuance for Shoreline-Based Activities on National Forest System Lands, Admiralty Island National Monument, Hoonah, Sitka and Juneau Ranger Districts, Tongass National Forest, AK, Comment Period Ends: November 6, 2002, Contact: Bob Dalrymple (907) 747-6671.

EIS No. 020328, Draft EIS, BPA, WA, Grand Coulee-Bell 500-kV Transmission Line Project, Construction and Operation, U.S. Army Corps Section 10 Permit, Douglas, Lincoln, Grant, Spokane Counties, WA, Comment Period Ends: September 23, 2002, Contact: Inez Graetzer (503) 230-3786. This document is available on the Internet at: http://www.bpa.gov.

EIS No. 020329, Final EIS, NPS, TX, Lake Meredith National Recreation Area and Alibates Flint Quarries National Monument Oil and Gas Management Plan, Hutchinson, Moore and Potter Counties, TX, Wait Period Ends: September 9, 2002, Contact: Karren Brown (806) 857-3151.

EIS No. 020330, Draft EIS, FHW, AR, MS, I-69 Mississippi River Crossing, Construction, from a western terminus at US 65 near McGehee, AR to an eastern terminus at State Highway 1 near Benoit, MS, US Coast Guard Bridge Permit, US Army Corps Section 10 and 404 Permits, NPDES Permit, Desha County, AR and Bolivar County, MS, Comment Period Ends: September 27, 2002, Contact: Randal Looney (501) 324-6430.

EIS No. 020331, Draft EIS, FHW, IN, I-69 Evansville to Indianapolis Corridor Study, I-69 Completion in Southwestern Indiana and Corridor Selection, IN, Comment Period Ends: November 7, 2002, Contact: Janice Osadczuk (317) 232-5468. This document is available on the Internet at: http://www.I69indyevn.org.

EIS No. 020332, Final EIS, FHW, NJ, NJ-52(1) Causeway (known as MacArthur Boulevard) Construction Project, between NJ-9 in Somers Point, Atlantic County to Bay Avenue in Ocean City City, Cape May County, Funding, COE Section 404 and 10 Permits, US CGD Permit, Atlantic and Cape May Counties, NJ, Wait Period Ends: September 9, 2002, Contact: Lourdes Castaneda (609) 637-4237.

EIS No. 020333, Draft EIS, AFS, KY, Daniel Boone National Forest Land Exchange Project, Exchanging two Federal Tracts for 98.17 Acres of Privately Owned Land located in Owsley County, Federal Lands to be considered are Tract 107AB(52.15 acres) located on Langdon Branch in Leslie County and Tract 745 (39.96 acres) located on Spicer Fork in Perry County, KY, Comment Period Ends: September 30, 2002, Contact: William M. Rock (859) 745-3100. This document is available on the Internet at: http://www.southenregion.fs.fed.us/boone/ppd.htm.

EIS No. 020334, Draft EIS, NPS, VA, Jamestown Project, Improvements at the Jamestown unit of Colonial National Park and the Jamestown National Historic Site, Implementation, James City County, VA, Comment Period Ends: October 1, 2002, Contact: Alec Gould (757) 898-2401.

EIS No. 020335, Final EIS, AFS, ID, MT, Lookout Pass Ski and Recreation Area (LPSRA) Expansion Project, Implementation, Amendment to the Existing Special Use Permit, NPDES Permit and COE Section 404 Permit, Idaho Panhandles National Forests, Coeur d 'Alene River Range District, ID and MT, Wait Period Ends: September 9, 2002, Contact: Glenn Truscott (208) 664-2318.

EIS No. 020336, Final EIS, COE, ID, WA, McNary Reservoir and Lower Snake River Reservoirs, Maintenance of the Authorized Navigation Channel, Dredged Material Management Plan (DMMP), Walla Walla District, Lower Snake River and Columbia River, ID and WA, Wait Period Ends: September 9, 2002, Contact: Jack Sands (509) 527-7287.

EIS No. 020337, Final EIS, AFS, OR, Shore 'Nuf Timber Sale, Timber Harvest on the Detroit Ranger District, Willamette National Forest, Linn and Marion Counties, or, Wait Period Ends: September 9, 2002, Contact: Jim Romero (503) 854-4212. This document is available on the Internet at: http://www.fs.fed.us/r6/williamette/manage/nepa/current_detroit.html.

EIS No. 020338, Final EIS, NAS, CA, Programmatic EIS—NASA Ames Development Plan (NADP) for Ames Research Center, New Research and Development Uses, Implementation, San Francisco Bay, Santa Clara County, CA, Wait Period Ends: September 9, 2002, Contact: Sandy Olliges (650) 604-3355. This document is available on the Internet at: http://www.researchpark.arc.nasa.gov.

Amended Notices

EIS No. 020249, Draft EIS, NPS, MO, Wilson's Creek National Battlefield General Management Plan, Implementation, Battle of Wilson's Creek Commemoration and Associated Battlefield Preservation, Greene and Christian Counties, MO, Comment Period Ends: August 20, 2002, Contact: Dick Lusardi (417) 732-2662. Revision of FR Notice Published on 6/21/2002: CEQ Comment Period Ending 8/5/2002 has been Corrected to 8/20/2002.

Dated: August 5, 2002.
Joseph C. Montgomery,
Director, NEPA Compliance Division, Office of Federal Activities.

[FR Doc. 02-20232 Filed 8-8-02; 8:45 am]

BILLING CODE 6560-50-P